ENVIRONMENTAL PROTECTION AGENCY

[FRL-6603-6]

Clean Air Act Operating Permit Program; Petition for Objection to Proposed State Operating Permit for Exxon Chemical Americas' (Exxon) Polypropylene Unit Baton Rouge Polyolefins Plant Baton Rouge, East Baton Rouge Parish, Louisiana

AGENCY: Environmental Protection Agency (EPA).

ACTION: Notice of final order on petition to object to State operating permit.

SUMMARY: This notice announces that the EPA Administrator has denied a petition to object to a proposed state operating permit issued by the Louisiana Department of Environmental Quality for Exxon's Chemical Americas proposed polypropylene unit at its Polyolefins Plant in Baton Rouge, Louisiana. Pursuant to section 505(b)(2) of the Clean Air Act (Act), the petitioners may seek judicial review in the United States Court of Appeals for the appropriate circuit within 60 days of this decision under section 307 of the Act.

ADDRESSES: You may review copies of the final order, the petition, and other supporting information at EPA, Region 6, 1445 Ross Avenue, Dallas, Texas 75202-2733. If you wish to examine these documents, you should make an appointment at least 24 hours before visiting day. The final order is also available electronically at the following address: http://www.epa.gov/ttn/oarpg/t5pfpr.html.

FOR FURTHER INFORMATION CONTACT: Jole Luehrs, Chief, Air Permitting Section, Multimedia Planning and Permitting Division, EPA, Region 6, 1445 Ross Avenue, Dallas, Texas 75202-2733, telephone (214) 665-7250, or e-mail at luehrs.jole@epa.gov.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

Ms. Marylee Orr, Executive Director of the Louisiana Environmental Action Network (LEAN) submitted a petition to the Administrator on December 30, 1998, seeking EPA's objection to the title V operating permit issued for Exxon's proposed polypropylene unit at Exxon's polyolefins plant in Baton Rouge, Louisiana. The petition was submitted on behalf of the North Baton Rouge Environmental Association and LEAN (Petitioners). The petition objects to issuance of the Exxon permit on two grounds: (1) Alleged discrimination under Title VI of the Civil Rights Act; and (2) the Baton Rouge ozone nonattainment area is not making reasonable further progress towards attainment, and that the additional emissions from the proposed polypropylene unit will adversely affect the ozone situation. Ms. Orr also submitted a letter supplementing the petition on behalf of LEAN on January 5, 1999, and another letter on March 1, 1999, requesting that the Exxon permit be reopened. The Region 6 Regional Administrator also addressed the second issue in a separate letter to the Petitioners.

On April 12, 2000, the Administrator issued an order denying the petition. The order explains the reasons for denying the Petitioners' claims.

Dated: April 28, 2000.
Carl E. Edlund,
Acting Regional Administrator, Region 6.

[FR Doc. 00-11567 Filed 5-8-00; 8:45 am]

BILLING CODE 6560-50-P